DEPARTMENT OF ENERGY

Federal Energy Regulatory Commission

[Docket No. EC01-147-000, et al.]

Rock River I, LLC, et al.; Electric Rate and Corporate Regulation Filings

September 14 2001.

Take notice that the following filings have been made with the Commission:

1. Rock River I, LLC and SeaWest WindPower, Inc. and Shell WindEnergy, Inc.

[Docket No. EC01-147-000]

Take notice that on September 4, 2001, Rock River I, LLC (Rock River), SeaWest WindPower, Inc. (SeaWest), and ShellWindEnergy Inc. (Shell WindEnergy) filed with the Federal Energy Regulatory Commission an application pursuant to Section 203 of the Federal Power Act for authorization of a disposition of jurisdictional facilities whereby Shell WindEnergy will acquire 100% of the membership interests in Rock River. Rock River is constructing a 50 MW wind power generating plant (“Project”) located in Carbon County, Wyoming, and estimated to begin producing test power for sale in September 2001. Rock River is currently wholly-owned by SeaWest. Pursuant to an acquisition agreement, the Transaction would be consummated after the Project commences commercial operation, which is expected to occur by October 15, 2001. The Transaction is expected to result in the disposition of Commission jurisdictional facilities consisting of Rock River's market-based rate tariff and minor interconnection facilities connecting the Project to the transmission facilities of PacifiCorp. Applicants have requested privileged treatment for the Acquisition Agreement between SeaWest and Shell WindEnergy.

A copy of this Application was served upon the Wyoming Public Service Commission and PacifiCorp.

Comment date: September 24 2001, in accordance with Standard Paragraph E at the end of this notice.

2. RockGen Energy LLC, Broad River Energy LLC

[Docket No. EC01-148-000]

Take notice that on September 5, 2001, RockGen Energy LLC and Broad River Energy LLC filed with the Federal Energy Regulatory Commission an application pursuant to section 203 of the Federal Power Act for authorization of the disposition of jurisdictional facilities in connection with the sale and leveraged lease financing of the RockGen Energy Center, a 525-MW natural gas-fired, combined cycle generating facility in Christiana, Wisconsin and the Broad River Energy Center, a 850-MW natural gas-fired, combined cycle generating facility in Cherokee County, South Carolina. The jurisdictional facilities being transferred include transmission interconnection facilities at each of the foregoing facilities. The application includes a request for privileged treatment of information.

Comment date: September 26, 2001, in accordance with Standard Paragraph E at the end of this notice.

3. PPL Generation, LLC, PPL Generation I Investments, LLC, PPL Brunner Island, LLC, PPL Martins Creek, LLC, PPL Holtwood, LLC, PPL Montour, LLC and PPL Southwest Generation Holdings, LLC

[Docket No. EC01-149-000]

Take notice that on September 7, 2001, PPL Generation, LLC, PPL Generation Investments, LLC, PPL Brunner Island, LLC, PPL Martins Creek, LLC, PPL Holtwood, LLC, PPL Montour, LLC and PPL Southwest Generation Holdings, LLC (collectively Applicants) filed with the Federal Energy Regulatory Commission an application pursuant to Section 203 of the Federal Power Act for approval of an intra-corporate restructuring. Applicants assert that the restructuring will have no effect on jurisdictional facilities, rates or services and will be consistent with the public interest as it does not involve a change in control or operation of jurisdictional facilities.

Comment date: September 28, 2001, in accordance with Standard Paragraph E at the end of this notice.

4. Allegheny Energy, Inc., Allegheny Energy Supply Hunlock Creek, LLC, Allegheny Energy Supply Conemaugh, LLC, Allegheny Generating Company, Green Valley Hydro, LLC, Allegheny Energy Global Markets, LLC, Monongahela Power Company, and Allegheny Energy Supply Company, LLC

[Docket No. EC01-150-000]

Take notice that on September 10, 2001, Allegheny Energy Inc., Allegheny Energy Supply Hunlock Creek, LLC, Allegheny Energy Supply Conemaugh, LLC, Allegheny Generating Company, Green Valley Hydro, LLC, Allegheny Energy Global Markets, LLC, Monongahela Power Company, and Allegheny Energy Supply Company, LLC, filed with the Federal Energy Regulatory Commission an application pursuant to Section 203 of the Federal Power Act for authorization for the divestiture of AE Supply and other subsidiaries by Allegheny Energy and related transactions.

Comment date: October 1, 2001, in accordance with Standard Paragraph E at the end of this notice.

5. Otter Tail Power Company.

[Docket No. EC01-151-000]

Take notice that on September 10, 2001, Otter Tail Power Company, a division of Otter Tail Corporation, tendered for filing, an Application to Transfer Operational Control Over Transmission Facilities to the Midwest Independent Transmission System Operator. Inc. under Section 203 of the Federal Power Act.

Comment date: October 1, 2001, in accordance with Standard Paragraph E at the end of this notice.

6. Reliant Energy Mid-Atlantic Power Holdings, LLC, Reliant Energy Seward, LLC, Reliant Energy Hunterstown, LLC

[Docket No. EC01-152-000]

Take notice that on September 10, 2001, Reliant Energy Mid-Atlantic Power Holdings, LLC (REMA), Reliant Energy Seward, LLC (Reliant Energy Seward) and Reliant Energy Hunterstown, LLC (Reliant Energy Hunterstown) (collectively, the Applicants) submitted an application pursuant to Section 203 of the Federal Power Act, seeking authorization for a proposed transfer of jurisdictional facilities.

The Applicants state that REMA proposes to sell its existing 198-MW Seward generating facility and existing 71-MW Hunterstown generating facility to Reliant Energy Seward and Reliant Energy Hunterstown, respectively. The generating facilities include certain associated jurisdictional transmission facilities. The Applicants further state that the proposed transaction will have no effect on competition, rates or regulation, and is in the public interest. Applicants have requested privileged treatment under 18 CFR 388.112 for certain materials submitted in this Application.

Comment date: October 1, 2001, in accordance with Standard Paragraph E at the end of this notice.

7. TECO EnergySource, Inc.

[Docket No. ER96-1563-017]

Take notice that on September 10, 2001 TECO EnergySource, Inc. (TES) tendered for filing with the Federal Energy Regulatory Commission (Commission), an updated market power study in accordance with Commission policies governing parties authorized to sell power at market based rates.

Comment date: October 1, 2001, in accordance with Standard Paragraph E at the end of this notice.

8. EWO Marketing, L.P.

[Docket No. ER01-666-002]

Take notice that on September 7, 2001, EWO Marketing, L.P. tendered for filing with the Federal Energy Regulatory Commission (Commission), a notice of change in status in accordance with a commitment it made in its filing in Docket No. ER01-2456-000.

Comment date: September 28, 2001, in accordance with Standard Paragraph E at the end of this notice.

9. Kentucky Utilities Company

[Docket No. ER01-1288-002]

Take notice that on September 11, 2001, Kentucky Utilities Company (KU) tendered for filing with the Federal Energy Regulatory Commission (Commission), an amendment to its filing in Docket No. ER01-1288-000. In the original filing KU inadvertently omitted several pages of the interconnection agreement between Kentucky Utilities Company and East Kentucky Power Cooperative, Inc. The omitted pages have been filed.

Comment date: October 2, 2001, in accordance with Standard Paragraph E at the end of this notice.

10. Duke Energy Corporation

[Docket No. ER01-1616-004]

Take notice that on September 10, 2001, Duke Energy Corporation (Duke) filed a revised compliance filing with the Federal Energy Regulatory Commission (Commission), submitting revisions to its OATT and an unexecuted Interconnection and Operating Agreement with Carolina Power & Light Company in the above-captioned docket.

Comment date: October 1, 2001, in accordance with Standard Paragraph E at the end of this notice.

11. Rochester Gas and Electric Corporation

[Docket Nos. ER01-2053-002; and ER01-1735-002]

Take notice that on September 10, 2001, Rochester Gas and Electric Corporation (RG&E) submitted a compliance filing with the Federal Energy Regulatory Commission (Commission), pursuant to the Commission's letter order issued on August 10, 2001 (August 10 Order) in Docket No. ER01-2053-000. RG&E's compliance filing includes a Statement of Policy and Code of Conduct as required in the August 10 Order. This filing also contains a proposal to redesignate the tariff sheets of RG&E's market-based rate tariff.

Comment date: October 1, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket #” and follow the instructions (call 202-208-2222 for assistance). Comments, protests and interventions may be filed electronically via the Internet in lieu of paper. See, 18 CFR 385.2001(a)(1)(iii) and the instructions on the Commission's Web site under the “e-Filing” link.

David P. Boergers,
Secretary.

[FR Doc. 01-23809 Filed 9-21-01; 8:45 am]

BILLING CODE 6717-01-P